SOCIAL SECURITY ADMINISTRATION

[Docket No. SSA-2012-0035]

Rescission of Social Security Rulings 96-2p, 96-5p, and 06-3p; Correction

AGENCY: Social Security Administration.

ACTION: Notice of rescission; correction.

SUMMARY: The Social Security Administration published a notice of rescission in the Federal Register on March 27, 2017, with incorrect modifiers in the published effective date. We are correcting the effective date to March 27, 2017.

FOR FURTHER INFORMATION CONTACT: Joshua Silverman, Office of Disability Policy, Social Security Administration, 6401 Security Boulevard, Baltimore, MD 21235-6401, (410) 594-2128. For information on eligibility or filing for benefits, call our national toll-free number 1-800-772, 1213, or TTY 1-800-325-0778, or visit our Internet site, Social Security Online, at http://www.socialsecurity.gov.

Correction

In the Federal Register of March 27, 2017 (82 FR 15263), in FR Doc. 2017-05958, on page 15263, in the first column, make the following correction, in the DATES section. Change the effective date to read, “Effective Date: March 27, 2017.”

Faye Lipsky,
Director, Office of Regulations and Reports Clearance, Social Security Administration.

[FR Doc. 2017-06902 Filed 4-5-17; 8:45 am]

BILLING CODE 4191-02-P